DEPARTMENT OF LABOR

Occupational Safety and Health Administration

[Docket No. GE2003-1]

Draft Ergonomics for the Prevention of Musculoskeletal Disorders: Guidelines for Retail Grocery Stores

AGENCY: Occupational Safety and Health Administration (OSHA); Department of Labor.

ACTION: Extension of comment period, announcement of public meeting.

SUMMARY: The Occupational Safety and Health Administration (OSHA) is extending the comment period for its draft Ergonomics for the Prevention of Musculoskeletal Disorders: Guidelines for Retail Grocery Stores (draft guidelines), an additional forty-five (45) days, until August 22, 2003. OSHA is also announcing that a public stakeholder meeting will be held on September 18, 2003.

DATES: Written Comments: Comments must be submitted by the following dates:

Hard Copy: You must submit your comments (postmarked or sent) by August 22, 2003.

Facsimile and electronic transmission: You must submit your comments by August 22, 2003. (Please see the SUPPLEMENTARY INFORMATION below for additional information on submitting comments.)

Stakeholder meeting: OSHA will hold a half-day stakeholder meeting to discuss the draft guidelines. The meeting will be held on Thursday, September 18, 2003 from 8:30 a.m. to 12:30 p.m. in Washington, DC. Interested persons must submit their intention to participate in the stakeholder meeting through express delivery, hand delivery, messenger service, fax or electronic means by August 22, 2003.

ADDRESSES:

I. Submission of Comments and Intention To Participate in Stakeholder Meeting

Regular mail, express delivery, hand delivery, and messenger service: You must submit three copies of your comments and attachments to the OSHA Docket Office, Docket No. GE2003-1, Room N-2625, U.S. Department of Labor, 200 Constitution Avenue, NW., Washington, DC 20210, telephone (202) 693-2350 (OSHA's TTY number is (877) 889-5627). The OSHA Docket Office and the Department of Labor's hours of operation are 8:15 a.m. to 4:45 p.m., EST. You need only submit one copy of your intent to participate in the stateholder meeting by express delivery, hand delivery, or messenger service to the above address.

Facsimile: If your comments, including any attachments, are 10 pages or fewer, you may fax them to the OSHA Docket Office at (202) 693-1648. You must include the docket number of this document, Docket No. GE2003-1, in your comments. You may also fax your intention to participate in the stakeholder meeting.

Electronic: You may submit comments and your intention to participate in the stakeholder meeting through the Internet at http:/ /comments.osha.gov/. (Please see SUPPLEMENTARY INFORMATION below for additional information on submitting comments.)

II. Obtaining Copies of the Draft Guidelines

You can download the draft guidelines for the retail grocery industry from OSHA's Web page at http://www.osha.gov. A printed copy of the draft guidelines is available from the OSHA Office of Publications, Room N-3101, U.S. Department of Labor, 200 Constitution Avenue, NW., Washington, DC 20210, or by telephone at (800) 321-OSHA (6742). You may fax your request for a copy of the draft guidelines to (202) 693-2498.

III. Stakeholder Meeting

The stakeholder meeting will be held at the Washington Court Hotel, 525 New Jersey Avenue, NW., Washington, DC 20001, Telephone (202) 628-2100.

FOR FURTHER INFORMATION CONTACT: Steven F. Witt, OSHA Directorate of Standards and Guidance, Room N-3718, U.S. Department of Labor, 200 Constitution Avenue, NW., Washington, DC 20210, telephone (202) 693-1950.

SUPPLEMENTARY INFORMATION:

I. Extension of Comment Period

OSHA announced publication of its draft Ergonomics for the Prevention of Musculoskeletal Disorders: Guidelines for Retail Grocery Stores in the Federal Register on May 9, 2003 (68 FR 25068). In that notice, the Agency provided the public with sixty (60) days to submit written comments, until July 8, 2003. Several interested persons requested that OSHA provide additional time to submit written comments on the draft guidelines. In light of the interest expressed by the public, OSHA is providing an additional forty-five (45) days for comments. Accordingly, written comments must now be submitted by August 22, 2003.

II. Submission of Comments and Internet Access to Comments

You may submit comments in response to this document by (1) hard copy, (2) fax transmission (facsimile), or (3) electronically through the OSHA Web page. You may supplement electronic submissions by uploading document files electronically. If you wish to mail additional materials in reference to an electronic submission, you must submit three copies of them to the OSHA Docket Office at the address above. The additional materials must clearly identify your electronic comments by name, date, subject and docket number so we can attach them to your comments. Because of security-related procedures the use of regular mail may cause a significant delay in the receipt of comments. Please contact the OSHA Docket Office at (202) 693-2350 (TTY (877) 889-5627) for information about security procedures concerning the delivery of materials by express delivery, hand delivery and messenger service.

All comments and submissions will be available for inspection and copying at the OSHA Docket Office at the above address. Comments and submissions will be posted on OSHA's Web page at http://www.osha.gov. OSHA cautions you about submitting personal information such as social security numbers, date of birth, etc. Contact the OSHA Docket Office at (202) 693-2350 (TTY (877) 889-5627) for information about materials not available through the OSHA Webpage and for assistance in using the internet to locate docket submissions.

III. Stakeholder Meeting

Following the close of the comment period, OSHA will hold a stakeholder meeting in Washington, DC, at the Washington Court Hotel on Thursday, September 18, 2003 from 8:30 a.m. to 12:30 p.m. Interested parties must submit their intention to participate in the stakeholder meeting by August 22, 2003 to allow the Agency to make appropriate plans for the meeting.

This notice was prepared under the direction of John L. Henshaw, Assistant Secretary for Occupational Safety and Health. It is issued under sections 4 and 8 of the Occupational Safety and Health Act of 1970 (29 U.S.C. 653,657).

Issued at Washington, DC this 23rd day of June, 2003.
John L. Henshaw,
Assistant Secretary of Labor.

[FR Doc. 03-16277 Filed 6-26-03; 8:45 am]

BILLING CODE 4510-26-M